DEPARTMENT OF TRANSPORTATION

Office of the Secretary

Notice of Applications for Certificates of Public Convenience and Necessity and Foreign Air Carrier Permits Filed Under Subpart B (Formerly Subpart Q) During the Week Ending November 26, 2011

The following Applications for Certificates of Public Convenience and Necessity and Foreign Air Carrier Permits were filed under Subpart B (formerly Subpart Q) of the Department of Transportation's Procedural Regulations (See 14 CFR 301.201 et seq.). The due date for Answers, Conforming Applications, or Motions to Modify Scope are set forth below for each application. Following the Answer period DOT may process the application by expedited procedures. Such procedures may consist of the adoption of a show-cause order, a tentative order, or in appropriate cases a final order without further proceedings.

Docket Number: DOT-OST-2011-0216.

Date Filed: November 23, 2011.

Due Date for Answers, Conforming Applications, or Motion To Modify Scope: December 14, 2011.

Description: Application of Trans Executive Airlines of Hawaii, Inc. d/b/a Transair d/b/a Interisland Airways (“Transair”) requesting a certificate of public convenience and necessity authorizing Transair to engage in interstate scheduled and charter air transportation of persons, property and mail.

Renee V. Wright,
Program Manager, Docket Operations Federal Register Liaison.

[FR Doc. 2011-32609 Filed 12-20-11; 8:45 am]

BILLING CODE 4910-9X-P